DEPARTMENT OF JUSTICE

[AAG/A Order No. 240-2001]

Privacy Act of 1974; System of Records

Pursuant to the Privacy Act of 1974 (5 U.S.C. 552a), notice is given that the United States National Central Bureau of INTERPOL (USNCB) proposes to modify a system of records. Specifically, the “INTERPOL-United States National Central Bureau (INTERPOL-USNCB) (Department of Justice) INTERPOL-USNCB Records System, Justice/INTERPOL-001” (last published March 10, 1992) (57 FR 8486)) has been re-titled, the “INTERPOL-United States National Central Bureau (USNCB) Records System, Justice/INTERPOL-001.”

This system has been revised to include an expanded group of individuals covered by the system, add new categories of records and add new record sources to the system. Additionally, the INTERPOL-USNCB is updating and regrouping its routine uses to reflect technology advances in law enforcement and agency practices and updating authority for disclosure, storage, retrieval, access, retention and disposal of records in the system. New system managers have been added to reflect internal INTERPOL-USNCB functions and appropriate sections have been re-worded for easier reading and better understanding of the system. For clarity, the entire system is reproduced in this publication.

Title 5 U.S.C. 552a (e) (4) and (11) provide that the public be given a 30-day period in which to comment on the modified system. The Office of Management and Budget (OMB), which has oversight responsibilities under the Privacy Act, requires that it be given a 40-day period in which to review the system. The public, OMB, and the Congress are invited to send written comments to Mary Cahill, Management and Planning Staff, Justice Management Division, Department of Justice, 1400 National Place Building, Washington, DC 20530.

A description of the modified system of records is provided below. In addition, in accordance with 5 U.S.C. 552a(r), the Department has provided a report to OMB and the Congress on the proposed modification.

Dated: July 16, 2001.
Janis A. Sposato,
Acting Assistant Attorney General for Administration.

Justice/Interpol-001

System Name:

The INTERPOL-United States National Central Bureau (USNCB) Records System.

System Location:

INTERPOL-U.S. National Central Bureau, Department of Justice, Washington, DC 20530.

Categories of Individuals Covered by the System:

Criminal and non-criminal individuals who have been convicted or are subjects of a criminal investigation with international aspects; individuals who may be associated with stolen weapons, motor vehicles, artifacts, or similar items involved in a crime; victims of humanitarian or criminal investigations; witnesses or confidential sources in a criminal investigation with international aspects persons, and person who are unable to identify themselves; and judicial or law enforcement personnel engaged in the performance of official duties.

Categories of Records in the System:

The program records of the INTERPOL-USNCB consist of criminal and non-criminal case files. The files contain electronic data and hard copy records of facsimiles, fingerprints, photographs, criminal investigative reports, applicant checks, licenses and related data, radio messages (international), log sheets, notices, bulletins or posters, investigative notes, computer printouts, letters, memoranda, and witness statements. These records relate to fugitives, victims, witnesses, wanted persons, lookouts (temporary and permanent), missing or abducted persons, persons who are unable to identify themselves, and deceased persons. Information about individuals includes names aliases, places and dates of birth, addresses, physical descriptions, various identification numbers, reason for the records or lookouts, and details and circumstances surrounding the actual or suspected violations, humanitarian request or administrative/operational matter.

Authority for Maintenance of the System:

22 U.S.C. 263a.

Routine Uses of Records Maintained in the System, Including Categories of Users and the Purposes of Such Uses:

The following access and disclosure for INTERPOL-USNCB records are designated as routine except when such designation is a violation or potential violation of law, rule or order issued pursuant thereto: In the event a record(s) in this system of records constitutes a violation or potential violation of law, whether civil, criminal or regulatory in nature, and whether arising by general statute, or particular program statute, or by regulation, rule or order issued pursuant thereto, the relevant records may be referred, as a routine use to the appropriate law enforcement and criminal justice agencies whether foreign, federal, state, local or tribal, charged with the responsibility of investigating or prosecuting such violation or charged with enforcing or implementing the statutes, or rules, regulations or orders issued pursuant thereto. A record may be disclosed to foreign, federal, state, local or tribal agencies or their bureaus or representatives maintaining civil, criminal or other information when necessary to a decision concerning the hiring or retention of an employee, the issuance of a security clearance, the letting of a contract, or the issuance of a license grant or other benefit. A record may be disclosed to any of the above agencies in response tot heir request in connection with the hiring or retention of an employee to the extent that the information is deemed relevant and necessary by the INTERPOL-USNCB. A record may be disclosed to appropriate parties engaged in litigation or in preparation of possible litigation, as well as to potential witnesses for the purpose of securing their testimony when necessary before courts, magistrates or administrative tribunals. A record may be disclosed to individuals seeking information by using established discovery procedures, whether in connection with civil, criminal, or regulatory proceedings. A record may be disclosed to foreign governments in accordance with formal or informal international agreements. Records may be disclosed to the Treasury Enforcement Communications System (TECS) (Treasury/CS 00.244) and to the Federal Bureau of Investigation, National Criminal Information Center (NCIC); to the International Criminal Police Organization (INTERPOL) General Secretariat and National Central Bureaus in member countries; to the INTERPOL Supervisory Board, an international board comprised of three judges having oversight responsibilities regarding the purpose and scope of personal information maintained in the international archives of INTERPOL. In addition, records may be disclosed to other third parties during the course of a criminal or humanitarian investigation to the extent deemed necessary by the INTERPOL-USNCB to facilitate an investigation and to translators of foreign languages as necessary.

Records may be referred to any of the aforementioned individuals, agencies, governments or organizations through various mediums or means of communication, including but not limited to the Internet and other law enforcement communication systems.

INTERPOL-USNCB records are accessed by contractors, grantees, experts, consultants, interns, students, and others performing or working on a contract, service, grant, cooperative agreement, or other assignment for the federal government, when necessary to accomplish an agency function related to this system of records. TECS, NCIC, and similar outside law enforcement records are accessed only by the INTERPOL-USNCB staff members granted access by the appropriate law enforcement agency.

Release of Information to the News Media:

Information permitted to be released to the news media and the public pursuant to 28 CFR 50.2 may be made available by INTERPOL-USNCB when it is determined that release of the specific information in the context of a particular case would not constitute an unwarranted invasion of personal privacy or violate INTERPOL-USNCB or law enforcement regulations.

Release of Information to Members of Congress:

Information contained in systems of records maintained by INTERPOL-USNCB, not otherwise prohibited from release pursuant to 5 U.S.C. 552, may be made available by the Chief or Deputy Chief, INTERPOL-USNCB, to a Member of Congress or the Member's staff acting upon the Member's behalf when the Member or staff requests the information on behalf of and at the written request of the individual who is the subject of the record, and when the release of the information is authorized under INTERPOL-USNCB or law enforcement regulations.

Release of Information to the National Archives and Records Administration (NARA) and to the General Services Administration (GSA):

A record from a system of records may be disclosed as a routine use to NARA and GSA in records management inspections conducted under the authority of 44 U.S.C. 2904 and 2906.

Release of Information to Former Employees:

Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personal-related or other official purposes where the Department requires information and/or consultation assistance from the former employee regarding a matter within that person's former area of responsibility.

Policies and Practices for Storing, Retrieving, Accessing, Retaining, and Disposing of Records in the System:

Storage:

Information is stored in file folders and in electronic word files at the INTERPOL-USNCB and at the Washington Federal Records Center. Certain limited data, e.g., that which concerns fugitives and wanted, missing or abducted persons is stored in the Treasury Enforcement Communications System (TECS) TREASURY/CS 00.244, a system published by the U.S. Department of Treasury, and in the National Criminal Information Center (NCIC) for a limited time period, or until the person(s) is apprehended or located.

Retrievability:

Information is retrieved primarily by name, system identification number, personal identification number, and by weapon serial number or motor vehicle identification number.

Safeguards:

Information is safeguarded and protected in accordance with Department rules and procedures governing the handling of computerized information. Only those individuals specifically authorized have access to the INTERPOL-USNCB records. Access to INTERPOL-USNCB records is given only to those individuals who require access to perform official duties. In addition, USNCB information resides in the secured INTERPOL-USNCB offices which are staffed twenty-four hours a day, seven days a week. Automated data is password secured.

Retention and Disposal:

The hard copy (paper record) will be retained on site at the INTERPOL-USNCB for two years after closing. At the end of the two years post closing, the hard copy will be transferred to the Washington National Records Center for storage. The hard copy (paper record) of the case file may be destroyed five years after transfer to the Washington National Records Center, for a total of seven years post closing, if there has been no case activity. These activities are in accordance with the records retention schedule approved by the Archivist of the United States. Information contained in electronic case files will be stored on a compact disc for a period of seven years post closure. The compact discs will be destroyed seven years post closure if there has been no case activity. Automated information will be flagged as an archived case and maintained on the LAN server.

System Manager(s) and Address:

Chief, INTERPOL-United States National Central Bureau, Department of Justice, Washington, DC 20530. Records Management Officer, INTERPOL-United States National Central Bureau, Department of Justice, Washington, DC 20530. Information Resources Manager, INTERPOL-United States National Central Bureau, Department of Justice, Washington, DC 20530.

Notification Procedure:

Inquiries regarding whether the system contains a record pertaining to an individual may be addressed to the Chief, INTERPOL-United States National Central Bureau, Department of Justice, Washington, D.C. 20530, or to the Freedom of Information Act (FOIA) Specialist at the same location. To enable INTERPOL-USNCB personnel to determine whether the system contains a record relating to him or her, the requester must submit a written request identifying the record system, identifying the category and type of records sought, and providing the individual's full name and at least two items of secondary information (date of birth, social security number, employee identification number, or similar identifying information).

Record Access Procedures:

The Attorney General has exempted the INTERPOL-USNCB system from the access, contest, and amendment provisions of the Privacy Act. Some records may be available under the Freedom of Information Act. Inquiries should be addressed to the FOIA/PA Officer, INTERPOL-United States National Central Bureau, Department of Justice, Washington, DC 20530. The letter should be clearly marked “Freedom of Information Request” and a return address provided for transmitting any information to the requester.

Contest Record Procedures:

See “Access procedures” above.

Record Source Categories:

Sources of information contained in this system include investigating reports of federal, state, local, and foreign law enforcement agencies (including investigating reports from a system of records published by Department of Treasury Enforcement Communications System (TECS) TREASURY/CS 00.244 or the National Crime Information Center (NCIC); other non-Department of Justice investigative agencies; client agencies of the Department of Justice; statements of witnesses and parties; and the work product of the staff of the INTERPOL-USNCB working on particular cases. Although the organization uses the name INTERPOL-USNCB for purposes of public recognition, the INTERPOL-USNCB is not synonymous with the International Criminal Police Organization (ICPO-INTERPOL), which is a private, intergovernmental organization headquartered in Lyon, France. The Department of Justice USNCB serves as the United States liaison with the INTERPOL General Secretariat and works in cooperation with the National Central Bureaus of other member countries, but is not an agent, legal representative, nor organization subunit of the International Criminal Police Organization. The records maintained by the INTERPOL-USNCB are separate and distinct from records maintained by INTERPOL and INTERPOL-USNCB does not have custody of, access to, nor control over the records of the International Criminal Police Organization.

Systems Exempted From Certain Provisions of the Act:

The Attorney General has exempted this system from subsections (c)(3) and (4), (d), (e), (1), (2), and (3), (e)(4)(G) and (H), (e)(5) and (8), (f), and (g) of the Privacy Act pursuant to 5 U.S.C. 552a(j)(2), and (k)(2) and (k)(5). Rules have been promulgated in accordance with the requirements of 5 U.S.C. 553(b), (c) and (e) and were published in the Federal Register on October 7, 1982 (47 FR 44255). See 28 CFR 16.103.

[FR Doc. 01-18793 Filed 7-26-01; 8:45 am]

BILLING CODE 4410-BC-M